NATIONAL FOUNDATION ON THE ARTS AND THE HUMANITIES

Arts Advisory Panel Meeting

AGENCY: National Endowment for the Arts, National Foundation on the Arts and Humanities.

ACTION: Notice; correction.

SUMMARY: Pursuant to Section 10(a)(2) of the Federal Advisory Committee Act (Pub. L. 92-463), as amended, this notice is providing corrected information regarding the previously announced open session of the State and Regional/Folk and Traditional Arts (state folk arts projects review) meeting, scheduled for January 19-20, 2012 in Room 714. This meeting, incorrectly listed as an open meeting from 3 p.m. to 5:30 p.m. on January 19th and from 9 a.m. to 5:30 p.m. on January 20th, will be closed.

DATES: January 19-20, 2012.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2011, these sessions will be closed to the public pursuant to subsection (c)(6) of section 552b of Title 5, United States Code.

Dated: January 13, 2012.
Kathy Plowitz-Worden,
Panel Coordinator, Panel Operations, National Endowment for the Arts.

[FR Doc. 2012-1016 Filed 1-13-12; 4:15 pm]

BILLING CODE 7537-01-P